DEPARTMENT OF THE INTERIOR

National Park Service

[NPS-WASO-NAGPRA-NPS0038568; PPWOCRADN0-PCU00RP14.R50000]

Notice of Inventory Completion: U.S. Department of the Interior, Bureau of Land Management, Alaska State Office, Anchorage, AK

AGENCY: National Park Service, Interior.

ACTION: Notice.

SUMMARY: In accordance with the Native American Graves Protection and Repatriation Act (NAGPRA), the U.S. Department of the Interior, Bureau of Land Management, Alaska State Office (BLM Alaska) has completed an inventory of human remains and has determined that there is a cultural affiliation between the human remains and Indian Tribes or Native Hawaiian organizations in this notice.

DATES: Repatriation of the human remains in this notice may occur on or after September 23, 2024.

ADDRESSES: Robin O. Mills, Bureau of Land Management, 222 W 7th Avenue #13, Anchorage, AK 99513, telephone (907) 474-2359, email rmills@blm.gov.

SUPPLEMENTARY INFORMATION: This notice is published as part of the National Park Service's administrative responsibilities under NAGPRA. The determinations in this notice are the sole responsibility of the BLM Alaska, and additional information on the determinations in this notice, including the results of consultation, can be found in the inventory or related records. The National Park Service is not responsible for the determinations in this notice.

Abstract of Information Available

Based on the information available, human remains representing at least four individuals have been reasonably identified. No associated funerary objects are present. The human remains include 15 skeletal elements representing minimally four individuals, secured during the 1958-1961 archaeological excavations at Cape Krusenstern, Alaska, by Louis Giddings. Previous repatriations from this site and others nearby occurred in 2000 to the Tribe identified in this notice. The new identified remains were discovered by specifically searching for human remains in excavation bags containing animal faunal elements, in August-November 2023. The new remains were found from three archaeological proveniences: (1) 10 ribs (MNI one individual; adult) from House 8, (2) two vertebrae & one metacarpal (MNI one individual; adult) from a seal fauna feature near House 30, and (3) one metatarsal and one clavicle (MNI two individuals; one teenager, one child) from House 41.

Cultural Affiliation

Based on the information available and the results of consultation, cultural affiliation is reasonably identified by the geographical location or acquisition history of the human remains described in this notice.

Determinations

The BLM Alaska has determined that:

• The human remains described in this notice represent the physical remains of four individuals of Native American ancestry.

• There is a reasonable connection between the human remains in this notice and the Native Village of Kotzebue.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after September 23, 2024. If competing requests for repatriation are received, the BLM Alaska must determine the most appropriate requestor prior to repatriation. Requests for joint repatriation of the human remains are considered a single request and not competing requests. The BLM Alaska is responsible for sending a copy of this notice to the Indian Tribes and Native Hawaiian organizations identified in this notice.

Authority: Native American Graves Protection and Repatriation Act, 25 U.S.C. 3003, and the implementing regulations, 43 CFR 10.10.

Dated: August 15, 2024.
Mariah Soriano,
Acting Manager, National NAGPRA Program.

[FR Doc. 2024-18952 Filed 8-22-24; 8:45 am]

BILLING CODE 4312-52-P